DEPARTMENT OF TRANSPORTATION

Federal Railroad Administration

[Docket Number FRA-2006-25040]

Petition for Extension of Waiver of Compliance

Under part 211 of title 49 Code of Federal Regulations (CFR), this document provides the public notice that by letter received on April 12, 2024, Capital Metropolitan Transportation Authority (CMTY) petitioned the Federal Railroad Administration (FRA) for an extension of a waiver of compliance from certain provisions of the Federal railroad safety regulations contained at 49 CFR part 222 (Use of Locomotive Horns at Public Highway-Rail Grade Crossings), part 229 (Railroad Locomotive Safety Standards), part 231 (Railroad Safety Appliance Standards), part 234 (Grade Crossing Safety), and part 238 (Passenger Equipment Safety Standards). The relevant Docket Number is FRA-2006-25040.

Specifically, CMTY requested to extend its existing relief for its commuter rail system that connects downtown Austin, Texas, with Austin's northern suburbs along 32 miles with 9 stations. CMTY seeks to continue operating a fleet of 6 Stadler GTW diesel multiple unit (DMU) rail vehicles that have operated on the line since 2010. CMTY requests extended relief from the following regulations:

• § 222.21(b), (d), When must a locomotive horn be used?

• §§ 229.29(c)(3) and (e), Air brake system calibration, maintenance, and testing; and 238.309(b), Periodic brake equipment maintenance

• §§ 229.31, Main reservoir tests; 229.49(b), Main reservoir system; and 229.51(a)(3) and (4), Aluminum main reservoirs

• §§ 229.47(b), Emergency brake valve; and 238.305(c)(5), Interior calendar day mechanical inspection of passenger cars

• § 229.71, Clearance above top of rail

• § 229.135(b)(4)(xviii) and (xix), Event recorders

• § 231.14(a)-(d), (f), and (g), Passenger-train cars without end platforms; § 238.229, Safety appliances—general

• § 238.103, Fire safety

• § 238.121(c)(2), Emergency communication

• § 238.223(a), Locomotive fuel tanks; and part 238, appendix D, Requirements for External Fuel Tanks on Tier I Locomotives

In support of its request, CMTY explained that their vehicles demonstrate “an equivalent level of safety and compliance,” given the Alternative Vehicle Technology final rule amendments in 49 CFR part 238. CMTY also noted that in this renewal request, they are seeking relief from fewer specific regulatory provisions than previously granted for this fleet of vehicles.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by October 7, 2024 will be considered by FRA before final action is taken. Comments received after that date will be considered if practicable.

Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-17564 Filed 8-7-24; 8:45 am]

BILLING CODE 4910-06-P